DEPARTMENT OF COMMERCE

National Oceanic and Atmospheric Administration

Notice of Deadline Extension for the NOAA Brennan Matching Fund Opportunity for Ocean and Coastal Mapping

AGENCY: National Oceanic and Atmospheric Administration (NOAA), Department of Commerce.

ACTION: Announcement to extend the deadline for the Brennan Matching Fund program opportunity, request for proposals, and request for interest to October 16, 2022.

SUMMARY: This notice extends the proposal submission deadline for the NOAA Rear Admiral Richard T. Brennan Ocean Mapping Matching Fund program by two weeks to October 16, 2022. Notice of the Brennan Matching Fund opportunity originally appeared in the Federal Register on June 10, 2022, 87 FR 35509.

DATES: Proposals, including any optional geographic information system (GIS) files of the proposed project areas, must be received via email by 5 p.m. Eastern Time (ET) on October 16, 2022. If an entity is unable to apply for this particular opportunity, but has an interest in participating in similar, future opportunities, NOAA requests a one-page statement of interest, also by October 16, 2022, to help gauge whether to offer the Brennan Matching Fund program in future years.

ADDRESSES: Proposals must be submitted via email to iwgocm.staff@noaa.gov.

FOR FURTHER INFORMATION CONTACT: Requests for additional information should be directed to Ashley Chappell, NOAA Integrated Ocean and Coastal Mapping Coordinator, at iwgocm.staff@noaa.gov.

Authority: Coast and Geodetic Survey Act of 1947 (33 U.S.C. 883e)

Benjamin K. Evans,
Director, Office of Coast Survey,National Ocean Service,National Oceanic and Atmospheric Administration.

[FR Doc. 2022-21272 Filed 9-29-22; 8:45 am]

BILLING CODE 3510-JE-P